DEPARTMENT OF COMMERCE

International Trade Administration

Advisory Committee on Africa: Notice of Open Meeting

AGENCY: International Trade Administration/Deputy Assistant Secretary for Africa, Commerce.

SUMMARY: The Advisory Committee on Africa was established to advise the Secretary of Commerce and the Deputy Secretary of Commerce on commercial policy issues in Sub-Saharan Africa.

TIME AND PLACE: October 12, 2000 from 10 a.m. to 12 noon. The meeting will take place at the Main Department of Commerce Building, Room 4830, 14th Street and Constitution Avenue, NW, Washington, DC 20230.

AGENDA: 1. Overview of trade and investment finance programs of U.S. Government agencies in Africa, including Export-Import Bank, OPIC and TDA.

2. Report of President Clinton's visit to Nigeria and Tanzania.

3. Update on situation in Ethiopia.

4. Discussion of African Growth and Opportunity Act (AGOA) implementation.

Public Participation: The meeting will be open to public participation. Seating will be available on a first-come first-served basis. Members of the public who plan to attend are requested to advise Ms. Alicia Robinson, Office of Africa, tel: 202-482-5148, fax: 202-482-5198, e-mail: alicia_robinson@ita.doc.gov.

Dated: September 19, 2000.
Gerald M. Feldman,
Director, Office of Africa.

[FR Doc. 00-24693 Filed 9-25-00; 8:45 am]

BILLING CODE 3510-DA-P